DEPARTMENT OF THE TREASURY

Submission for OMB Review; Comment Request

September 21, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, and 1750 Pennsylvania Avenue, NW., Washington, DC 20220.

DATES: Written comments should be received on or before October 28, 2009 to be assured of consideration.

Internal Revenue Service (IRS)

OMB Number: 1545-0175.

Type of Review: Revision.

Form: 4626.

Title: Alternative Minimum Tax-Corporations.

Description: Form 4626 is used by corporations to calculate their alternative minimum tax.

Respondents: Businesses or other for-profits.

Estimated Total Burden Hours: 2,611,200 hours.

OMB Number: 1545-0217.

Type of Review: Extension.

Form: 5735.

Title: Form 5735, American Samoa Economic Development Credit.

Description: Form 5735 is used to figure the American Samoa economic development credit under section 30A. The credit is generally allowed against income tax imposed by Chapter 1. A domestic corporation (other than an S corporation) that is an existing credit claimant with respect to American Samoa must complete Form 5735 for each year the American Samoa economic development credit election is in effect.

Respondents: Businesses or other for-profits.

Estimated Total Burden Hours: 127 hours.

OMB Number: 1545-0644.

Type of Review: Extension.

Form: 6781.

Title: Gains and Losses from Section 1256 Contracts and Straddles.

Description: Form 6781 is used by taxpayers to compute their gains and losses from section 1256 contracts and straddles and their special tax treatment. The data is used to verify that the tax reported accurately reflects any such gains and losses.

Respondents: Businesses or other for-profits.

Estimated Total Burden Hours: 903,236 hours.

OMB Number: 1545-0887.

Type of Review: Extension.

Form: 8281.

Title: Information Return for Publicity Offered Original Issue Discount Instruments.

Description: Form 8281 is filed by the issuer of a publicly offered debt instrument having OID. The information is used to update Pub. 1212, List of Original Issue Discount Instruments.

Respondents: Businesses or other for-profits.

Estimated Total Burden Hours: 3,060 hours.

OMB Number: 1545-0745.

Type of Review: Extension.

Title: LR-27-83 (Temporary) Floor Stocks Credits or Refunds and Consumer Credits or Refunds With Respect to Certain Tax-Repealed Articles; Excise Tax on Heavy Trucks; LR-54-85 (Temporary) Excise Tax on.

Description: LR-27-83 requires sellers of trucks, trailers and semitrailers, and tractors to maintain records of the gross vehicle weights of articles sold to verify taxability. LR-54-85 requires that if the sale is to be treated as exempt, the seller and the purchaser must be registered and the purchaser must give the seller a resale certificate.

Respondents: Businesses or other for-profits.

Estimated Total Burden Hours: 4,140 hours.

OMB Number: 1545-1975.

Type of Review: Extension.

Form: Schedule F (Form 1040).

Title: Profit or Loss from Farming.

Description: Schedule F (Form 1040) is used by individuals to report their employment taxes. The data is used to verify that the items reported on the form is correct and also for general statistical use.

Respondents: Businesses or other for-profits.

Estimated Total Burden Hours: 7,796,240 hours.

OMB Number: 1545-1989.

Type of Review: Extension.

Title: Notice 2009-53—Credit for Nonbusiness Energy Property.

Description: This notice updates interim guidance, pending the issuance of regulations, relating to the credit for nonbusiness energy property under § 25C of the Internal Revenue Code. Specifically, this notice provides procedures that manufacturers may follow to certify property as either eligible building envelope components or qualified energy property, as well as guidance regarding the conditions under which taxpayers seeking to claim the § 25C credit may rely on a manufacturer's certification.

Respondents: Individuals and Households.

Estimated Total Burden Hours: 350 hours.

OMB Number: 1545-1438.

Type of Review: Extension.

Title: CO-8-91 (Final) Distributions of Stock and Stock Rights.

Description: The requested information is required to notify the Service that a holder of preferred stock callabe at a premium by the issuer has made a determination regarding the likelihood of exercise of the right to call that is different from the issuer's determination.

Respondents: Businesses or other for-profits.

Estimated Total Burden Hours: 333 hours.

OMB Number: 1545-1163.

Type of Review: Extension.

Form: 8822.

Title: Change of Address.

Description: Form 8822 is used by taxpayers to notify the Internal Revenue Service that they have changed their home or business.

Respondents: Individuals and Households.

Estimated Total Burden Hours: 258,334 hours.

OMB Number: 1545-2003.

Type of Review: Extension.

Title: Notice 2006-24, Qualifying Advanced Coal Project Program.

Description: This notice establishes the qualifying advanced coal project program under sec. 48A of the Internal Revenue Code. The notice provides the time and manner for a taxpayer to apply for an allocation of qualifying advanced coal project credits and, once the taxpayer has received this allocation, the time and manner for the taxpayer to file for a certification of its qualifying advanced coal project.

Respondents: Businesses or other for-profits.

Estimated Total Burden Hours: 4,950 hours.

OMB Number: 1545-2009.

Type of Review: Extension.

Form: 13285-A.

Title: Reducing Tax Burden on America's Taxpayers.

Description: The IRS Office of Taxpayer Burden Reduction (TBR) needs the taxpaying public's help to identify meaningful taxpayer burden reduction opportunities that impact a large number of taxpayers. This form should be used to refer ideas for reducing taxpayer burden to the TBR for consideration and implementation.

Respondents: Businesses or other for-profits.

Estimated Total Burden Hours: 62 hours.

OMB Number: 1545-1035.

Type of Review: Extension.

Form: 8611.

Title: Recapture of Low-Income Housing Credit.

Description: IRC section 42 permits owners of residential rental projects providing low-income housing to claim a credit against their income tax. If the property is disposed of or it falls to meet certain requirements over a 15-year compliance period and a bond is not posted, the owner must recapture on Form 8611 part of the credit(s) taken in prior years.

Respondents: Businesses or other for-profits.

Estimated Total Burden Hours: 7,842 hours.

Clearance Officer: R. Joseph Durbala, (202) 622-3634, Internal Revenue Service, Room 6516, 1111 Constitution Avenue, NW., Washington, DC 20224.

OMB Reviewer: Shagufta Ahmed, (202) 395-7873, Office of Management and Budget, Room 10235, New Executive Office Building, Washington, DC 20503.

Celina Elphage,
Treasury PRA Clearance Officer.

[FR Doc. E9-23273 Filed 9-25-09; 8:45 am]

BILLING CODE 4830-01-P